DEPARTMENT OF HOMELAND SECURITY

Coast Guard

[Docket No. USCG-2012-0867]

Southwest Louisiana Area Maritime Security Regional Sub-Committee; Vacancies

AGENCY: Coast Guard, DHS.

ACTION: Solicitation for Membership.

SUMMARY: This notice requests that individuals interested in serving on the Southwest Louisiana Area Maritime Security Regional Sub-Committee of the Sabine-Neches Area Maritime Security Committee, a committee under the jurisdiction of the Federal Maritime Security Coordinator (FMSC), Marine Safety Unit Port Arthur Texas, submit their applications for membership to the Captain of the Port (COTP), Port Arthur, TX.

DATES: Requests for membership should reach the U.S. Coast Guard COTP Port Arthur March 11, 2013.

ADDRESSES: Requests for membership should be submitted to the COTP Port Arthur at the following address: Commanding Officer, Marine Safety Unit (MSU) Lake Charles, One Lakeside Plaza, Suite 200, 127 West Broad Street, Lake Charles, LA 70601 or by email to Robyn.A.Kapperman@uscg.mil.

FOR FURTHER INFORMATION CONTACT: For questions about submitting an application or about the Area Maritime Security Committee (AMSC) in general, please contact MSU Lake Charles Port Security Specialist Dr. Robyn A. Kapperman at (337) 721-5763.

SUPPLEMENTARY INFORMATION:

Authority

Section 102 of the Maritime Transportation Security Act (MTSA) of 2002 (Pub. L. 107-295) added section 70112 to Title 46 of the U.S. Code and authorized the Secretary of the Department in which the Coast Guard is operating to establish AMSCs for any port area of the United States. (See 33 U.S.C. 1226; 46 U.S.C. 70112; 33 CFR 1.05-1, 6.01; Department of Homeland Security Delegation No. 0170.1). The MTSA includes a provision exempting these AMSCs from the Federal Advisory Committee Act (FACA), Public Law 92-436, 86 Stat. 470(5 U.S.C. App.2).

Southwest Louisiana Area Maritime Security Regional Sub-Committee Purpose

AMSCs assist the FMSC in the development, review, update, and exercising of the Area Maritime Security (AMS) Plan for their area of responsibility. Such matters may include, but are not limited to: (1) Identifying critical port infrastructure and operations; (2) identifying risks (threats, vulnerabilities, and consequences); (3) determining mitigation strategies and implementation methods; (4) developing and describing the process to continually evaluate overall port security by considering consequences and vulnerabilities, how they may change over time, and what additional mitigation strategies can be applied; and (5) providing advice, and assisting the FMSC in developing and maintaining the AMS Plan.

AMSC Composition

The composition of the Sabine Neches AMSC, to include the Southwest Louisiana AMS Regional Sub-Committee, is controlled by 33 CFR 103.305. Accordingly, members may be selected from the Federal, Territorial, or Tribal government; the State government and political subdivisions of the State; local public safety, crisis management, and emergency response agencies; law enforcement and security organizations; maritime industry, including labor; other port stakeholders having a special competence in maritime security; and port stakeholders affected by security practices and policies. Also, members of the AMSC must have at least 5 years of experience related to maritime or port security operations.

AMSC Membership

The Southwest Louisiana AMS Sub-Committee is a regional sub-committee of the Sabine-Neches AMSC and is comprised of individuals who represent Federal, State, local, and industry stakeholder interests in the Calcasieu River Region. We are seeking to fill up to ten (10) positions, including one executive committee position and nine alternate committee positions, with this solicitation.

Applicants may be required to pass an appropriate security background check prior to appointment to the committee. Members' terms of office will range from one year to five years; however, a member is eligible to serve additional terms of office. Members will not receive any salary or other compensation for their service on an AMSC.

Request for Applications

Those seeking membership are not required to submit formal applications to the local COTP; however, we have an obligation to ensure that a specific number of members have the prerequisite maritime security experience, therefore we encourage the submission of resumes highlighting experience in the maritime, response, and security industries.

Dates of employment and points of contact should be included for each position highlighted in the resume.

In support of the policy of the Coast Guard on gender and ethnic nondiscrimination, we encourage qualified men and women and members of all racial and ethnic groups to apply. The Coast Guard values diversity; all the different characteristics and attributes of persons that enhance the mission of the Coast Guard.

Dated: November 30, 2012.
G.J. Paitl,
Captain, U.S. Coast Guard, Federal Maritime Security Coordinator Port Arthur.

[FR Doc. 2013-02860 Filed 2-7-13; 8:45 am]

BILLING CODE 9110-04-P